DEPARTMENT OF COMMERCE

National Oceanic and Atmospheric Administration

RIN 0648-XE129

Marine Mammals; File No. 19439

AGENCY: National Marine Fisheries Service (NMFS), National Oceanic and Atmospheric Administration (NOAA), Commerce.

ACTION: Notice; issuance of permit.

SUMMARY: Notice is hereby given that a permit has been issued to Daniel P. Costa, Ph.D., University of California at Santa Cruz, Long Marine Laboratory, 100 Shaffer Road, Santa Cruz, CA 95064 to conduct research on pinnipeds in Antarctica.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Rosa L. González, (301) 427-8401.

SUPPLEMENTARY INFORMATION: On August 28, 2015, notice was published in the Federal Register (80 FR 52255) that a request for a permit to conduct research on pinnipeds in Antartica had been submitted by the above-named applicant. The requested permit has been issued under the authority of the Marine Mammal Protection Act of 1972, as amended (16 U.S.C. 1361 et seq.), and the regulations governing the taking and importing of marine mammals (50 CFR part 216).

The permit authorizes the permit holder to capture and sample leopard (Hydrurga leptonyx), crabeater (Lobodon carcinophaga), southern elephant (Mirounga leonina), Ross (Ommatophoca rossii), Weddell (Leptonychotes weddellii), and Antarctic fur (Arctocephalus gazella) seals throughout their range for scientific research. Researchers may capture up to 40 animals per species per year to collect tissue samples, morphometrics, and metabolic and physiological measurements, apply identifying marks, and attach instruments; as well as an additional 50 pups of each species for marking, morphometrics, and minimal sample collection. An additional 100 each of crabeater, leopard, and Ross seals, 500 southern elephant seals, and 1000 each of Weddell seals and Antarctic fur seals may be taken annually via Level B harassment by incidental disturbance during captures, opportunistic sample collection, and resights. The permit also authorizes unintentional mortality or serious injury of up to four animals per species annually not to exceed ten animals per species over the life of the permit. Blood and tissue samples would be imported from the Southern Ocean and Antarctica to the United States and exported world-wide for analyses. The permit expires October 1, 2020.

In compliance with the National Environmental Policy Act of 1969 (42 U.S.C. 4321 et seq.), a final determination has been made that the activity proposed is categorically excluded from the requirement to prepare an environmental assessment or environmental impact statement.

Dated: December 2, 2015.
Julia Harrison,
Chief, Permits and Conservation Division, Office of Protected Resources, National Marine Fisheries Service.

[FR Doc. 2015-30841 Filed 12-7-15; 8:45 am]

BILLING CODE 3510-22-P